DEPARTMENT OF COMMERCE

International Trade Administration

The Regents of the University of Michigan; Application(s) for Duty-Free Entry of Scientific Instruments

Pursuant to section 6(c) of the Educational, Scientific and Cultural Materials Importation Act of 1966 (Pub. L. 89-651, asamended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before May 15, 2024. Address written comments to Statutory Import Programs Staff, Room 41006, U.S. Department of Commerce, Washington, DC 20230. Please also email a copy of those comments to Dianne.Hanshaw@trade.gov.

Docket Number: 24-009. Applicant: The Regents of the University of Michigan, 5082 Wolverine Tower, 3003 South State Street, Ann Arbor, MI 48109-1287. Instrument: Formula Student Motor and Motor Controllers. Manufacturer: AMK Motion GmbH + CoKG, Germany. Intended Use: The instrument is intended to be used to teach current engineering students at the University of Michigan about vehicle integration, design, and dynamics. This is taught to students through participation in the national wide intercollegiate Formula SAE competitions. This motor is a critical component in the electric powertrain of the vehicle as each motor will independently control each wheel of the car. These specific motors from AMK allow our team to learn the fundamentals of such a process without having to design and manufacture our motors and motor controllers, which is a far more expensive, time-consuming, and knowledge-heavy process. Justification for Duty-Free Entry: According to the applicant, there are no instruments of the same general category manufactured in the United States. Application accepted by Commissioner of Customs: January 3, 2024.

Dated: April 19, 2024.
Gregory W. Campbell,
Director, Subsidies and Economic Analysis, Enforcement and Compliance.

[FR Doc. 2024-08810 Filed 4-24-24; 8:45 am]

BILLING CODE 3510-DS-P